DEPARTMENT OF LABOR

Employment and Training Administration

[TA-W-65,112]

Vesuvius USA Corporation, Fisher Illinois Manufacturing Facility, Fisher, IL; Notice of Termination of Investigation

Pursuant to Section 221 of the Trade Act of 1974, as amended, an investigation was initiated on February 4, 2009 in response to a petition file by a company official on behalf of workers of Vesuvius USA Corporation—Fisher Illinois Manufacturing Facility, a subsidiary of Cookson America, Incorporated, Fisher, Illinois.

The petitioner has requested that the petition be withdrawn. Therefore, the investigation under this petition has been terminated.

Signed at Washington, DC, this 19th day of March, 2009.
Linda G. Poole,
Certifying Officer, Division of Trade Adjustment Assistance.

[FR Doc. E9-7744 Filed 4-6-09; 8:45 am]

BILLING CODE 4510-FN-P